DEPARTMENT OF ENERGY

Electric Transmission Congestion Study

AGENCY: Office of Electricity Delivery and Energy Reliability, Department of Energy (DOE).

ACTION: Request for written comments and notice of technical workshops.

SUMMARY: Section 216(a)(1) of the Federal Power Act (FPA) requires the Department of Energy (Department or DOE) to complete a study of electric transmission congestion every three years. DOE issued the first “National Electric Transmission Congestion Study” (Congestion Study) in August 2006. The Department is now initiating preparations for the 2009 Congestion Study, and seeks comments on what publicly-available data and information should be considered, and what type of analysis should be performed, to identify and understand the significance and character of transmission congestion. Interested persons may submit comments in the manner indicated in the ADDRESSES portion of this notice. In addition, DOE will host six regional technical workshops to receive and discuss input concerning electric transmission-level congestion.

DATES: See SUPPLEMENTARY INFORMATION section for workshop dates and locations. DOE recognizes that many commenters will wish to draw upon studies or analyses that are now in process. DOE suggests that commenters submit such materials as they become available, but no later than December 31, 2008.

ADDRESSES: You may submit written comments to http://www.congestion09.anl.gov, or by mail to the Office of Electricity Delivery and Energy Reliability, OE-20, U.S. Department of Energy, 1000 Independence Avenue SW., Washington, DC 20585. The following electronic file formats are acceptable: Microsoft Word (.doc), Corel Word Perfect (.wpd), Adobe Acrobat (.pdf), Rich Text Format (.rtf), plain text (.txt), Microsoft Excel (.xls), and Microsoft PowerPoint (.ppt). The Department is striving to utilize only publicly available data for this study. Accordingly, do not submit information that you believe is or should be protected from public disclosure. DOE is responsible for the final determination concerning disclosure or nondisclosure of information submitted to DOE and for treating it in accordance with the DOE's Freedom of Information regulations (10 CFR 1004.11). All comments received by DOE regarding the 2009 Congestion Study will be posted on http://www.congestion09.anl.gov for public review.

Note: Delivery of the U.S. Postal Service mail to DOE continues to be delayed by several weeks due to security screening. DOE therefore encourages those wishing to comment to submit their comments electronically by e-mail. If comments are submitted by regular mail, the Department requests that they be accompanied by a CD or diskette containing electronic files of the submission.

FOR FURTHER INFORMATION CONTACT: David Meyer, DOE Office of Electricity Delivery and Energy Reliability, (202) 586-1411, david.meyer@hq.doe.gov.

SUPPLEMENTARY INFORMATION:

I. Background

Section 1221 of the Energy Policy Act of 2005 (Pub. L. 109-58) (EPAct) added several new provisions to the Federal Power Act (16 U.S.C. 824p) (FPA), including FPA section 216. FPA section 216(a) requires the Secretary of Energy to conduct a study of electric transmission congestion within one year from the date of enactment of EPAct and every three years thereafter; such studies. The 2006 Congestion Study looked at congestion nationwide except for the portion of Texas covered by the Electricity Reliability Council of Texas, to which FPA section 216 does not apply. The 2009 Congestion Study will be of a similar scope. FPA section 216(a) requires the congestion study be conducted in consultation with affected States and any appropriate regional entity referred to in FPA section 215, i.e., the regional electric reliability organizations.¹

¹ The regional reliability organizations under FPA section 215 are the Florida Reliability Coordinating Council, the Midwest Reliability Organization, the Northeast Power Coordinating Council, Reliability First Corporation, SERC Reliability Corporation, the Southwest Power Pool, the Texas Regional Entity (TRE), and the Western Electricity Coordinating Council.

In preparing the 2006 Congestion Study, the Department gathered historical congestion data obtained from existing studies prepared by regional reliability councils, regional transmission organizations (RTOs) and independent system operators (ISOs), and regional planning groups. In addition, the Department sponsored modeling to simulate future congestion for years 2008 and 2011 in the Eastern Interconnection and years 2008 and 2015 in the Western Interconnection. DOE issued the 2006 Congestion Study on August 8, 2006, and requested comments on the study.

Based on the historical data and the modeling results, the 2006 Congestion Study identified several U.S. areas experiencing significant transmission congestion. Two “Critical Congestion Areas” (i.e., areas where the current and/or projected effects of congestion are especially broad and severe) were identified: the Atlantic coastal area from metropolitan New York through northern Virginia (the Mid-Atlantic Critical Congestion Area); and southern California (the Southern California Critical Congestion Area). Four “Congestion Areas of Concern” (i.e., areas where a large-scale congestion problem exists or may be emerging but more information and analysis appear to be needed to determine the magnitude of the problem) were identified: New England; the Phoenix-Tucson area; the San Francisco Bay area; and the Seattle-Portland area. Also, a number of “Conditional Congestion Areas” (i.e., areas where future congestion would result if large amounts of new generation were to be developed without simultaneous development of associated transmission capacity) were identified, including: Montana-Wyoming; Dakotas-Minnesota; Kansas-Oklahoma; Illinois, Indiana and upper Appalachia; and the Southeast. All comments received on the 2006 Congestion Study are available at http://nietc.anl.gov.

II. Comments

The Department is no longer accepting comments on the 2006 Congestion Study. All comments filed in response to today's notice should be addressed to the preparation of the 2009 Congestion Study, and sent to the Department in the manner indicated in the ADDRESSES portion of this notice. In written comments in response to this notice and at the technical workshops, DOE requests States, utilities, regional transmission organizations (RTOs), independent system operators (ISOs), and other stakeholders to describe changes in their respective areas since 2005 that affect the location, duration, frequency, magnitude, and significance of transmission congestion, including related constraints. Special attention should be given to the question of how to gauge the magnitude or significance of congestion using publicly available data. In addition, DOE is particularly interested in comments that speak to the most appropriate and effective methods for distinguishing between the effects of technical limits on line loadings and possible contractual limits on the use of those same lines.

III. Technical Workshops

Between June and September 2008, DOE will host six regional technical workshops to receive and discuss input relevant to the 2009 Congestion Study, including comments on what publicly-available data should be considered to identify and understand the significance and character of transmission congestion. Each workshop will consist of panels of invited speakers who will present their views, followed by a discussion among the panelists led by DOE staff.

Workshops dates and times: The dates and times for the technical workshops are:

1. June 11, 2008, 9 a.m. to 12:30 p.m., San Francisco, CA.

2. June 18, 2008, 1 p.m. to 4:30 p.m., Oklahoma City, OK.

3. July 9, 2008, 9 a.m. to 12:30 p.m., Hartford, CT.

4. July 24, 2008, 9 a.m. to 12:30 p.m., Atlanta, GA.

5. August 6, 2008, 9 a.m. to 12:30 p.m., Las Vegas, NV.

6. September 17, 2008, 9 a.m. to 12:30 p.m., Chicago, IL.

Workshop locations: The locations of the technical workshops are:

1. San Francisco—Hyatt Regency San Francisco, 5 Embarcadero Center, San Francisco, CA 94111.

2. Oklahoma City—Skirvin Hilton Oklahoma City, One Park Avenue, Oklahoma City, OK 73102.

3. Hartford—Hartford Marriott Downtown, 200 Columbus Boulevard, Hartford, CT 06103.

4. Atlanta—Westin Peachtree Plaza, 210 Peachtree Street, Atlanta, GA 30303.

5. Las Vegas—Atomic Testing Museum, 755 E. Flamingo Road, Las Vegas, NV 89119.

6. Chicago—Wyndham Chicago, 633 North St. Clair, Chicago, IL 60611.

Tentative Agenda: An agenda for each technical workshop will be posted in advance of the scheduled date at http://www.congestion09.anl.gov.

Public Participation: The workshops will be open to the public, and will be simulcast over the Internet. Advance registration for Web cast is required by visiting http://www.iian.ibeam.com/events/ener001/26552/. A complete archive of each event will be on this Web site soon after the conclusion of the event, and will be downloadable in podcast format.

Any member of the public interested in offering oral comments at a technical workshop may do so on the day of the workshop, subject to the time available. Approximately one-half hour will be reserved for public comments. Time allotted per speaker will depend on the number who wish to speak but is not expected to exceed three minutes. Anyone who is not able to attend the workshop or has had insufficient time to present material is invited to submit a written statement in the manner indicated in the ADDRESSES portion of this notice, above.

Note: The Department will consult with the States and regional reliability organizations in the preparation of the 2009 Congestion Study. DOE recognizes that in addition to (or as an alternative to) participating in the regional workshops, some States or reliability organizations may wish to discuss congestion matters with the Department on a bilateral basis. DOE will reserve time at the sites of the regional workshops for such bilateral discussions, and it invites interested States or reliability organizations to contact the Department to identify mutually convenient times. In addition, the Department will maintain an “open door” policy, and will schedule congestion meetings at DOE headquarters upon request with States, reliability organizations, Regional Transmission Organizations, Independent System Operators, utilities, and other stakeholders.

Issued in Washington, DC on May 30, 2008.
Kevin M. Kolevar,
Assistant Secretary, Office of Electricity Delivery and Energy Reliability.

[FR Doc. E8-12434 Filed 6-3-08; 8:45 am]

BILLING CODE 6450-01-P